DEPARTMENT OF TRANSPORTATION

Federal Aviation Administration

[Docket No.: FAA-2017-0975]

RIN 2120-0768

Request for Emergency Processing of Collection of Information by the Office of Management and Budget; Emergency Clearance To Revise Information Collection 2120-0768, Part 107 Authorizations and Waivers

AGENCY: Federal Aviation Administration (FAA), Department of Transportation (DOT).

ACTION: Notice of Agency request for OMB emergency information collection processing and request for comments.

SUMMARY: FAA hereby gives notice it is submitting the following Information Collection request (ICR) to the Office of Management and Budget (OMB) for Emergency processing under the Paperwork Reduction Act of 1995 (PRA) and its implementing regulations. FAA requests that OMB authorize the proposed collection of information identified below on, or before October 16, 2017, for a period of 180 days.

ADDRESSES: A copy of this individual information collection request (ICR), with applicable supporting documentation, may be obtained by calling FAA's unmanned aircraft systems (UAS) Low Altitude Authorization and Notification Capability (LAANC) Program Manager: Casey Nair (tel. (202) 267-0369) or via email at Casey.Nair@faa.gov. Comments regarding these information collection requirements should include the title and OMB control number listed below and should be sent directly to the Office of Information and Regulatory Affairs, Office of Management and Budget, 725 Seventeenth Street NW., Washington, DC 20503, Attention: FAA Desk Officer. Comments may also be sent via email to OMB at oira_submissions@omb.eop.gov.

FOR FURTHER INFORMATION CONTACT: Casey Nair, FAA's unmanned aircraft systems (UAS) Low Altitude Authorization and Notification Capability (LAANC) Program Manager, tel. (202) 267-0369 or via email at Casey.Nair@faa.gov.

SUPPLEMENTARY INFORMATION:

Title: The FAA Seeks Emergency Clearance to Revise its Existing Information Collection 2120-0768, Part 107 Authorizations and Waivers under 14 CFR part 107.

OMB Control Number: 2120-0768.

Form Number(s): N/A.

Affected Public: Businesses and Small UAS operators under 14 CFR part 107.

Frequency of Submission: One submission per operation.

Respondent Universe: small UAS operators under 14 CFR part 107.

Reporting Burden:

Total Estimated Responses: 124,000 authorization requests 2017 with a 35% increase per year every year after.

Total Estimated Annual Burden: The FAA estimates that using the LAANC based method for authorizations will require five minutes per transaction. Therefore, the FAA estimates the total time burden using LAANC to be approximately 10,400 hours for authorizations. That number increases to 14,400 in 2018 and 18,954 in 2018 and 2019 respectively.

Status: Emergency Review.

Description: Under 14 CFR 107.41, “no person may operate a small unmanned aircraft in Class B, Class C, or Class D airspace or within the lateral boundaries of the surface area of Class E airspace designated for an airport unless that person has prior authorization from Air Traffic Control (ATC).” [14 CFR 107.41.] Since the promulgation of part 107, the FAA has received an extremely high volume of airspace authorization requests for UAS operations. From September 2016 to July 2017 the Agency received 20,566 authorization requests. Of these, the Agency has processed 14,334 and continues to have over 6,000 authorizations in the processing queue. Requests have steadily increased over time, and the FAA expects the queue will exceed 25,000 pending authorizations within the next 6 months. The volume of these authorization requests has dramatically increased the time between submission and approval of those authorization requests. Currently, airspace authorization requests may be in queue sixty to ninety days before receiving a response. The time necessary to process these requests has resulted in an increase in safety reports due to non-compliant operations. Today there are an average of 250 safety reports a month, or approximately 1,500 over a six-month period, associated with a potential risk of an incident between manned aircraft and a UAS. In addition, because of the lengthy queue for processing through the authorization Web site, Air Traffic Controllers routinely receive calls from UAS operators seeking approval to operate. These calls create distractions for Air Traffic Control management and in some cases can impact the controllers managing manned traffic creating a potential safety hazard. To mitigate these potential hazards, the FAA is seeking to implement the Low Altitude Authorization and Notification Capability (LAANC) system. Using the LAANC system, the FAA will be able to grant near-real time authorizations for the vast majority of operations. Implementation of the LAANC system is vital to the safety of the National Airspace System because it would (1) encourage compliance with 14 CFR 107.41 by speeding up the time to process authorization requests (2) reduce distraction of controllers working in the Tower, and (3) increase public access and capacity of the system to grant authorizations. LAANC is expected to dramatically reduce the incidence of noncompliant operations. The FAA estimates a minimum of 30% reduction in noncompliant operations would result in 450 fewer safety reports over the next six months.

As provided under 5 CFR 1320.13, Emergency Processing, DOT is requesting emergency processing for this new collection of information as specified in the PRA and its implementing regulations. DOT cannot reasonably comply with normal clearance procedures because the use of normal clearance procedures is reasonably likely to result in further distraction to Air Traffic Controllers and further non-compliant operations. Due to the pressing safety consideration of reducing safety reports due to non-compliant UAS operations, the FAA cannot wait the normal 90 days of public comment. Therefore, FAA is requesting OMB approval of this collection of information 7 days after publication of this Notice in the Federal Register. Upon OMB approval of its Emergency clearance request, FAA will follow the normal clearance procedures for the information collection associated with LAANC.

Also included in the request for processing for the purposes of transparency are non-substantive changes to the Web site portal for requesting airspace authorizations. These changes include new branding of the Web site portal DroneZone and improvements to the external customer experience. It's expected that operations that are relatively simple will go through LAANC's automated approval process while more complex operations that require a more thorough review by FAA subject matter experts (SME) will go through the FAA's DroneZone electronic portal. Again, these changes will create greater access to airspace authorizations and decrease the number of non-compliant operations.

Under 44 U.S.C. 3507(a) and 5 CFR 1320.5(b), 1320.8(b)(3)(vi), FAA informs all interested parties that it may not conduct or sponsor, and a respondent is not required to respond to, a collection of information unless it displays a currently valid OMB control number.

Authority: 44 U.S.C. 3501-3520.

Issued in Washington, DC, on October 4, 2017.
Casey Nair,
LAANC Program Manager.

[FR Doc. 2017-21878 Filed 10-10-17; 8:45 am]

BILLING CODE 4910-13-P